DEPARTMENT OF ENERGY

Federal Energy Regulatory Commission

[Project No. 15000-003]

Erie Boulevard Hydropower, L.P.; Notice of Application Accepted for Filing and Soliciting Motions To Intervene and Protests

Take notice that the following hydroelectric application has been filed with the Commission and is available for public inspection.

a. Type of Application: New Major License.

b. Project No.: 15000-003.

c. Date filed: June 30, 2022.

d. Applicant: Erie Boulevard Hydropower, L.P. (Erie).

e. Name of Project: Franklin Falls Hydroelectric Project (Franklin Falls Project or project).

f. Location: The existing project is located on the Saranac River, in the town of St. Armand in Essex County and the town of Franklin in Franklin County, New York. The project does not occupy federal land.

g. Filed Pursuant to: Federal Power Act, 16 U.S.C. 791 (a)-825(r).

h. Applicant Contact: Steven Murphy, Director, U.S. Licensing, Erie Boulevard Hydropower, L.P., 33 West 1st Street South, Fulton, New York 13069; phone: (315) 598-6130; email: steven.murphy@brookfieldrenewable.com; and Patrick Storms, Director of Operations, Erie Boulevard Hydropower, L.P., 800 Starbuck Avenue, Suite 201, Watertown, New York 13601; phone: (315) 779-2410; email: patrick.storms@brookfieldrenewable.com.

i. FERC Contact: Claire Rozdilski, 202-502-8259, or claire.rozdilski@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Franklin Falls Hydroelectric Project (P-15000-003).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The Franklin Falls Project consists of the following existing facilities: (1) a 148-foot-long, 45-foot-high concrete overflow-type dam at a crest elevation of 1,462.88 feet National Geodetic Vertical Datum of 1929 (NGVD 29) with 2-foot-high flashboards; (2) a reservoir with a surface area of 479 acres and a gross storage capacity of 5,580 acre-feet at pool elevation 1,464.88 feet NGVD 29; (3) an integrated 28-foot-long gated intake structure located on the dam's right (south) side; (4) a 10.5-foot-diameter, 300-foot-long steel pipeline; (5) a 43-foot-high surge tank with a 20-foot-diameter steel shaft; (6) two 10-foot-diameter, 38-foot-long steel penstocks; (7) a powerhouse containing two generating units having a total rated capacity of 2.12 megawatts; (8) 85-foot-long, 2.3-kilovolt (kV) generator leads; (9) a 2.3/46-kV step-up transformer bank; (10) a 300-foot-long, 46-kV transmission line; (11) a tailrace; and (12) appurtenant facilities.

The Franklin Falls Project operates in a modified run-of-river mode. If inflow exceeds the hydraulic capacity of the units, the project operates continuously at full load. When the inflow is less than the hydraulic capacity of the project, the project is operated in a run-of-river mode utilizing pondage as needed for daily flow regulation and to suit power requirements of the New York Independent System Operator. The project has an average annual generation of 10,349 megawatt-hours.

Erie does not propose changes to project facilities or operations. Erie proposes to continue to: (1) provide a minimum base flow of 245 cubic feet per second (cfs) or inflow, whichever is less, from March 1 through June 1 from the Franklin Falls powerhouse; and from June 2 to March 1 reservoir inflow is released from the powerhouse, as needed for the downstream Saranac Project to maintain a minimum base flow of 165 cfs, or inflow, whichever is less; (2) limit the maximum total drawdown of the Franklin Falls impoundment to 2 feet below the top of the flashboards, or 1 foot below the spillway crest when flashboards are not in use (Erie annually installs flashboards at Franklin Falls by the first week of June, unless flow conditions warrant otherwise); (3) provide a minimum flow to the bypassed reach of 125 cfs or inflow, whichever is less, from March 31 through May 31 for the protection of walleye spawning and incubation (the release schedule may be modified on a year-to-year basis based on water temperatures and presence/absence of walleye, upon mutual agreement between the licensee and the New York State Department of Environmental Conservation; and (4) operate and maintain the cartop boat launch and canoe portage.

Erie proposes to modify the project boundary by removing approximately 1.12 acres along the northern shoreline, which are not needed for project operations, and adding approximately 0.14 acre to include the project's existing hand-carry boat launch. In addition, Erie proposes to implement its proposed bald eagle management plan, invasive species management plan, and impoundment drawdown plan.

m. In addition to publishing the full text of this document in the Federal Register, the Commission provides all interested individuals an opportunity to view and/or print the contents of this document via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments May 2023

Scoping Document 1 comments due June 2023

Issue Scoping Document 2 (if necessary) July 2023

Issue Notice of Ready for Environmental Analysis July 2023

Dated: April 11, 2023.
Kimberly D. Bose,
Secretary.

[FR Doc. 2023-08134 Filed 4-17-23; 8:45 am]

BILLING CODE 6717-01-P